FEDERAL MARITIME COMMISSION

Ocean Transportation Intermediary License; Applicants

Notice is hereby given that the following applicants have filed with the Federal Maritime Commission an application for license as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicant:

GSA Shipping, Inc., 500 W. 140th Street, Gardena, CA 90248. Officers:, Marq Shim, President, (Qualifying Individual), John Kim, General Manager.

Non-Vessel Operating Common Carrier and Ocean Freight Forwarder Transportation Intermediary Applicant:

Fastcarga, LLC, 2111 NW 79th Avenue, Miami, FL 33122. Officers: Michael P. McCarthy, Traffic Manager, (Qualifying Individual), Carolina Avelianeda, Operation Manager.

Ocean Freight Forwarder—Ocean Transportation Intermediary Applicants:

Air Sea Transport Inc., 268 Howard Avenue, Des Plaines, IL 60018. Officers: Frank Ku, President, (Qualifying Individual), Tommy Shing, Vice President.

M & N Seatank Agencies, Inc., 118 East 92nd Street, #3D, New York, NY 10128. Officers: Evangelos N. Sakellarios, President, (Qualifying Individual), Nicholas E. Sakellarios, Vice President.

Ridgeway International (USA) Inc., 1080 Military Turnpike, Plattsburgh, NY 12901. Officers: Wendy Wray, Compliance Officer, (Qualifying Individual), Guy M. Tombs, President.

Dated: February 8, 2002.
Bryant L. VanBrakle,
Secretary.

[FR Doc. 02-3524 Filed 2-12-02; 8:45 am]

BILLING CODE 6730-01-P